DEPARTMENT OF ENERGY

Federal Energy Regulatory Commission

Notice of Effectiveness of Exempt Wholesale Generator Status

| Docket Nos.
Longbow BESS, LLC | EG24-27-000.
Danish Fields Storage, LLC | EG24-28-000.
Talen Conemaugh LLC | EG24-29-000.
Talen Keystone LLC | EG24-30-000.
Sparta Solar, LLC | EG24-31-000.
Jade Meadow LLC | EG24-32-000.
Pleasant Valley Solar LLC | EG24-33-000.
Flat Ridge 4 Wind, LLC | EG24-34-000.
Flat Ridge 4 Wind Holdings LLC | EG24-35-000.
Flat Ridge 5 Wind Energy LLC | EG24-36-000.
Flat Ridge 5 Wind Energy Holdings LLC | EG24-37-000.
River Fork Solar, LLC | EG24-38-000.
NMRD Data Center II, LLC | EG24-39-000.
NMRD Data Center III, LLC | EG24-40-000.
True North Solar, LLC | EG24-41-000.
Cutlass Solar II, LLC | EG24-42-000.
Grimes County Solar Project LLC | EG24-43-000.
Ben Milam Solar 2 LLC | EG24-44-000.
Quartz Solar, LLC | EG24-45-000.
Northern Orchard Solar PV, LLC | EG24-46-000.
Elkhart County Solar Project, LLC | EG24-47-000.
Kiowa County Solar Project, LLC | EG24-48-000.
Martin County Solar Project, LLC | EG24-49-000.
Martin County II Solar Project, LLC | EG24-50-000.

Take notice that during the month of January 2024, the status of the above-captioned entities as Exempt Wholesale Generators became effective by operation of the Commission's regulations. 18 CFR 366.7(a) (2023).

Dated: February 5, 2024.
Debbie-Anne A. Reese,
Acting Secretary.

[FR Doc. 2024-02721 Filed 2-8-24; 8:45 am]

BILLING CODE 6717-01-P